FEDERAL DEPOSIT INSURANCE CORPORATION

Notice to All Interested Parties of the Termination of the Receivership of 7439, Columbia Savings and Loan Association, Beverly Hills, CA

Notice is hereby given that the Federal Deposit Insurance Corporation (“FDIC”) as Receiver for Columbia Savings and Loan Association, Beverly Hills, California (Receiver”) intends to terminate its receiverships for said institutions. The Resolution Trust Corporation (“RTC”) was appointed Receiver for Columbia Savings and Loan Association and Columbia Savings and Loan Association F.A. and pursuant to 12 U.S.C. 1441a(m)(1) FDIC succeeded RTC as Receiver. The Columbia Savings and Loan Association F.A. was terminated on December 2, 1998. The liquidation of receivership assets for Columbia Savings and Loan Association has been completed. To the extent permitted by available funds and in accordance with law, the Receiver will be making a final dividend payment to proven creditors.

Based on the foregoing, the Receiver has determined that the continued existence of the receiverships will serve no useful purpose. Consequently, notice is given that the receiverships shall be terminated, to be effective no sooner than thirty (30) days after the date of this Notice. If any person wishes to comment concerning the termination of the receivership, such comment must be made in writing and sent within thirty (30) days of the date of this Notice to:

Federal Deposit Insurance Corporation, Attention: Receivership Oversight Department, 1601 Bryan Street, Dallas, Texas 75201.

No comments concerning the termination of these receiverships will be considered which are not sent within this time frame.

Federal Deposit Insurance Corporation.
July 21, 2011.
Robert E. Feldman,
Executive Secretary.

[FR Doc. 2011-18838 Filed 7-25-11; 8:45 am]

BILLING CODE 6714-01-P